ENVIRONMENTAL PROTECTION AGENCY

[FRL-7795-4]

Science Advisory Board Staff Office; Notification of Upcoming Teleconference Meetings of the Science Advisory Board Committee on Valuing the Protection of Ecological Systems and Services

AGENCY: Environmental Protection Agency.

ACTION: Notice.

SUMMARY: The Environmental Protection Agency (EPA), Science Advisory Board (SAB) Staff Office is announcing two public teleconferences of the SAB's Committee on Valuing the Protection of Ecological Systems and Services (C-VPESS).

DATES: August 23, 2004, 1 -2:30 p.m. (eastern time) and August 25, 2004, 1—2:30 p.m. (eastern time).

ADDRESSES: Access to the teleconference will be by telephone only at: 866-299-3188. Dial the conference code 202-564-4562 and press # when prompted.

FOR FURTHER INFORMATION CONTACT: Any member of the public wishing further information regarding this meeting may contact Dr. Angela Nugent, Designated Federal Officer (DFO), via telephone/voice mail at: (202) 343-9981, via e-mail at: nugent.angela@epa.gov, or by mail at U.S. EPA SAB (MC 1400F), 1200 Pennsylvania Ave., NW., Washington, DC 20460. General information about the SAB can be found on the SAB Web site at: http://www.epa.gov/sab.

SUPPLEMENTARY INFORMATION:

Background: Pursuant to the Federal Advisory Committee Act, Public Law 92-463, the Background on the Committee and its charge was provided in 68 FR 11082 (March 7, 2003). The purpose of the teleconferences is to discuss work initiated at prior meetings of the Committee and prepare for the Committee's next meeting. The agendas for the teleconferences are likely to include:

1. Update/Discussion on Conclusions Drawn from Confined Animal Feeding Operation (CAFO) Break-out Session at the Committee's June 2004 Meeting;

2. Update/Discussion on work addressing Ecological Benefit Analysis at EPA for Economically Significant Rules;

3. Update/Discussion on work on defining “Concepts and Methods;'

4. Update/Discussion on draft report text related to “Risk Paradigms and Experience in Valuation Exercises;” and

5. Planning for the Committee's September 2004 Meeting.

Availability of Meeting Materials: Agendas for the teleconference meetings will be posted on the SAB Web site at: http://www.epa.gov/sab, prior to the meeting. Meeting materials will also be posted on the Web site, and may be requested from the DFO for those persons who can not attend the meeting.

Procedures for Providing Public Comments. The SAB Staff Office will accept written public comments of any length, and accommodate oral public comments whenever possible. The SAB expects that public statements presented at the meeting will not be repetitive of previously submitted oral or written statements. Oral Comments: In general, each individual or group requesting an oral presentation at a teleconference meeting will be limited to three minutes per speaker and no more than fifteen minutes total. Interested parties should contact the DFO in writing (e-mail, fax or mail—see contact information noted above) by close of business August 16, 2004, in order to be placed on the public speaker list for the meetings. Written Comments: Although written comments are accepted until the date of the meeting, written comments should be received in the SAB Staff Office at least one week prior to the meeting date so that the comments may be made available to the panel for their consideration. Comments should be supplied to the DFO via the contact information noted above in the following formats: one hard copy with original signature, and one electronic copy via e-mail (acceptable file format: Adobe Acrobat, WordPerfect, Word, or Rich Text files (in IBM-PC/Windows 98/2000/XP format).

Meeting Accommodations: Individuals requiring special accommodation to access this meeting, should contact the DFO at least five business days prior to the meeting so that appropriate arrangements can be made.

Dated: July 26, 2004.
Vanessa T. Vu,
Director, EPA Science Advisory Board Staff Office.

[FR Doc. 04-17378 Filed 7-29-04; 8:45 am]

BILLING CODE 6560-50-P